DEPARTMENT OF HEALTH AND HUMAN SERVICES

Centers for Disease Control and Prevention

[Announcement Number 00127]

Developing a Model System for the Collection, Analysis, and Dissemination of Data on Genetic Tests, Notice of Availability of Funds; Amendment

A notice announcing the availability of Fiscal Year 2000 funds to fund a cooperative agreement program for Developing a Model System for the Collection, Analysis, and Dissemination of Data on Genetic Tests, which was published in the Federal Register on June 8, 2000, (Vol. 65, No. 111, Pages 36446-36448). The notice is amended as follows:

On page 36447, First Column, under Section D. Program Requirements, Item 1(c), change to read: Using experts, identify six to ten DNA-based tests to guide in the finding, collection, and analysis of relevant data (published and unpublished).

On page 36447, Third Column, under Section G. Evaluation Criteria, Item 4(c), change to read: Identify available data for the DNA-based tests, identifying data gaps, and developing common data formats,

Dated: June 9, 2000.
Henry S. Cassell III,
Acting Director, Procurement and Grants Office, Centers for Disease Control and Prevention (CDC).

[FR Doc. 00-15116 Filed 6-14-00; 8:45 am]

BILLING CODE 4163-18-P